DEPARTMENT OF TRANSPORTATION

Bureau of Transportation Statistics

[Docket ID Number: DOT-OST-2014-0031]

Agency Information Collection; Activity Under OMB Review; Airline Service Quality Performance—Part 234

AGENCY: Office of the Assistant Secretary for Research and Technology (OST-R), Bureau of Transportation Statistics (BTS), Department of Transportation.

ACTION: Notice.

SUMMARY: In compliance with the Paperwork Reduction Act of 1995, Public Law 104-13, the Bureau of Transportation Statistics invites the general public, industry and other governmental parties to comment on the continuing need for—and usefulness of—DOT requiring large certificated air carriers to file “On-Time Flight Performance Reports” and “Mishandled-Baggage Reports” pursuant to 14 CFR 234.4 and 234.6. These reports are used to monitor the quality of air service that larger air carriers provide to the flying public. The Federal Aviation Administration uses the On-Time Flight Performance Reports to identify problem areas within the air traffic control system.

DATES: Written comments should be submitted by August 14, 2015.

FOR FURTHER INFORMATION CONTACT: Cecelia Robinson, Office of Airline Information, RTS-42, Room E34-410, OST-R, BTS, 1200 New Jersey Avenue SE., Washington, DC 20590-0001, Telephone Number (202) 366-4405, Fax Number (202) 366-3383 or Email cecelia.robinson@dot.gov.

Comments: Comments should identify the associated OMB approval number 2138-0041 and Docket ID Number DOT-OST-2014-0031. Persons wishing the Department to acknowledge receipt of their comments must submit with those comments a self-addressed stamped postcard on which the following statement is made: Comments on OMB #2138-0041, Docket—DOT-OST-2014-0031. The postcard will be date/time stamped and returned.

ADDRESSES: You may submit comments by any of the following methods:

Federal Erulemaking Portal: Go to http://www.regulations.gov. Follow the online instructions for submitting comments.

Mail: Docket Services: U.S. Department of Transportation, 1200 New Jersey Avenue SE., West Building Ground Floor, Room W12-140, Washington, DC 20590-0001.

Hand Delivery or Courier: West Building Ground Floor, Room W12-140, 1200 New Jersey Avenue SE., between 9 a.m. and 5 p.m. ET, Monday through Friday, except Federal holidays.

Fax: 202-366-3383.

Instructions: Identify docket number, DOT-OST-2014-0031, at the beginning of your comments, and send two copies. To receive confirmation that DOT received your comments, see instructions above. Internet users may access all comments received by DOT at http://www.regulations.gov. All comments are posted electronically without charge or edits, including any personal information provided.

Privacy Act: Anyone is able to search the electronic form of all comments received into any of DOT's dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket, or to read background documents or comments received, go to http://www.regulations.gov or the street address listed above. Follow the online instructions for accessing the dockets.

Electronic Access: You may access comments received for this notice at http://www.regulations.gov by searching docket DOT-OST-2014-0031.

SUPPLEMENTARY INFORMATION:

OMB Approval No. 2138-0041.

Title: Airline Service Quality Performance Reports—Part 234.

Form No.: BTS Form 234.

Type of Review: Renewal of approved collection.

Respondents: Large certificated air carriers that account for at least 1 percent of the domestic scheduled-service passenger revenues.

Number of Respondents: 14.

Number of Responses: 168.

Total Burden per Response: 20 hours.

Total Annual Burden: 3,360 hours.

Needs and Uses:

Consumer Information

Part 234 gives air travelers information concerning the on-time performance history of flights and the rate of mishandled baggage for each reporting carrier. The reports are filed by the 14 largest scheduled-service U.S. passenger carriers.

On July 15, 2011 the Department published a Notice of Proposed Rulemaking (NPRM) proposing to change the manner in which baggage data are reported (see 76 FR 41726). The proposed rule would require carriers to report: (1) The number of mishandled checked bags (as opposed to the current requirement to report the number of mishandled baggage reports filed by passengers), (2) the total number of checked bags (as opposed to the current requirement to report the total number of enplaned passengers), (3) the number of mishandled wheelchairs and scooters used by passengers with disabilities that were carried in the cargo compartment, and (4) the total number of wheelchairs and scooters used by passengers with disabilities that were carried in the cargo compartment.

In the preamble to the Notice, the Department stated that the change in the matrix to mishandled bags per unit of checked bags would give consumers more reliable information on the air carriers' performance regarding the treatment of baggage within their control. Under the current system, there is no direct relationship between the number of mishandled bags and the number of checked bags. With the institution of baggage fees, the number of checked bags at some carriers has declined by 40 to 50 percent. There has been a corresponding 40 percent decline (i.e., improvement) in the industry mishandled baggage rates. The proposed matrix would have a direct correlation between mishandled baggage and checked baggage.

A separate breakout of mishandled wheelchairs/scooters would assist passengers with mobility disabilities in selecting air carriers with high probabilities of meeting their special needs. There is a gap in the Department's data regarding the mishandling of wheelchairs and scooters. The proposed data would provide information to passenger with disabilities on which air carriers best meet their special needs.

Reducing and Identifying Traffic Delays

The Federal Aviation Administration uses Part 234 data to pinpoint and analyze air traffic delays. Wheels-up and wheels-down times are used in conjunction with departure and arrival times to show the extent of ground delays. Actual elapsed flight time, wheels-down minus wheels-up time, is compared to scheduled elapsed flight time to identify airborne delays. The reporting of aircraft tail number allows the FAA to track an aircraft through the air network, which enables the FAA to study the ripple effects of delays at hub airports. The data can be analyzed for airport design changes, new equipment purchases, the planning of new runways or airports based on current and projected airport delays and traffic levels. The identification of the reason for delays allows the FAA, airport operators, and air carriers to pinpoint delays under their control.

Administrative Issues

The Confidential Information Protection and Statistical Efficiency Act of 2002 (44 U.S.C. 3501) requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Issued in Washington, DC, on June 8, 2015.
Patricia Hu,
Director, Bureau of Transportation Statistics, Office of the Assistant Secretary for Research and Technology.

[FR Doc. 2015-14529 Filed 6-12-15; 8:45 am]

BILLING CODE 4910-9X-P